DEPARTMENT OF EDUCATION

Office of Safe and Drug-Free Schools; Overview Information; Safe Schools/Healthy Students Program; Notice Inviting Applications for New Awards for Fiscal Year (FY) 2007

Catalog of Federal Domestic Assistance (CFDA) Number: 84.184L.

Dates: Applications Available: May 10, 2007.

Deadline for Transmittal of Applications: June 19, 2007.

Deadline for Intergovernmental Review: August 20, 2007.

Full Text of Announcement

I. Funding Opportunity Description

Purpose of Program: The Safe Schools/Healthy Students program (SS/HS) supports the implementation and enhancement of integrated, comprehensive community-wide plans that create safe and drug-free schools and promote healthy childhood development.

Priorities: These priorities are from the notice of final priorities, requirements, selection criteria, and definitions for this program, published elsewhere in this issue of the Federal Register.

Absolute Priority: For FY 2007 and any subsequent year in which we make awards based on the list of unfunded applicants from this competition, this priority is an absolute priority. Under 34 CFR 75.105(c)(3) we consider only those applications that meet this priority.

This priority is:

Comprehensive Plan

This priority supports projects of local educational agencies (LEAs) proposing to implement an integrated, comprehensive community-wide plan designed to create safe, respectful, and drug-free school environments and promote prosocial skills and healthy childhood development. Plans must focus activities, curricula, programs, and services in a manner that responds to the community's existing needs, gaps, or weaknesses in areas related to the five comprehensive plan elements:

Element One—Safe School Environments and Violence Prevention Activities.

Element Two—Alcohol, Tobacco, and Other Drug Prevention Activities.

Element Three—Student Behavioral, Social, and Emotional Supports.

Element Four—Mental Health Services.

Element Five—Early Childhood Social and Emotional Learning Programs.

Competitive Preference Priority: Within this absolute priority, we give competitive preference to applications that address the following priority.

Under 34 CFR 75.105(c)(2)(i) we award an additional 5 points to an application that meets this priority.

This priority is:

LEAs That Have Not Previously Received a Grant or Services Under the Safe Schools/Healthy Students Initiative

Under this priority, we give priority to applications from LEAs that have not yet received a grant under this program as an applicant or as a member of a consortium. In order for a consortium application to be eligible under this priority, no member of the LEA consortium may have received a grant or services under this program as an applicant or as a member of a consortium.

Application Requirements: The following requirements apply to all applications submitted under this competition (Definitions for important terms associated with this competition can be found in the notice of final priorities, requirements, selection criteria, and definitions published elsewhere in this issue of the Federal Register.):

(1) Program-Specific Assurances for Former SS/HS Grant Recipients. For those LEAs that have previously received funds or services (or for those LEA consortia that include a member LEA that has received funds or services) under the SS/HS program, a program-specific assurance must be submitted as part of the SS/HS application. All participating LEAs in a proposed consortium project must sign this program-specific assurance. The assurance must state that, if awarded, the project will not serve those schools or sub-regions that were served by the first SS/HS project. Applications from prior SS/HS grant recipients (or from a consortium that includes an LEA that has previously received SS/HS funds or services) that do not include the program-specific assurance will be rejected and not considered for funding.

(2) Funding Limits for Applicants. An applicant's request for funding must not exceed the following maximum amounts, based on student enrollment data, for any of the project's four 12-month budget periods: $2,250,000 for an LEA with at least 35,000 students; $1,500,000 for an LEA with at least 5,000 students but fewer than 35,000 students; and $750,000 for an LEA with fewer than 5,000 students. In applying these maximums, applicants must use the most recent student enrollment data from the National Center for Education Statistics' (NCES) Common Core of Data (CCD) as posted on the NCES Web site. In the case of consortium applicants, the maximum funding request is based on the combined student enrollment data for the participating LEAs. Department of the Interior, Bureau of Indian Education-funded schools that are not included in the NCES database and request grant funds that exceed $750,000 for any of the project's four 12-month budget periods must provide documentation of enrollment data.

(3) Preliminary Memorandum of Agreement (MOA). Each applicant must include in its application a preliminary MOA that is signed by the authorized representatives of the LEA, the local juvenile justice agency, the local law enforcement agency, and the local public mental health authority—the required SS/HS partners. For consortium applicants, the preliminary MOA must be signed by the authorized representative of each member LEA and by the authorized representative of each corresponding required SS/HS partner for each member LEA. Additionally, the preliminary MOA must:

(a) Include information that supports the selection of each identified SS/HS required partner that has signed the preliminary MOA;

(b) Demonstrate the support and commitment of the required SS/HS partners to implement and sustain the project if funded;

(c) Name a core management team of senior representatives from the required partners, and clearly define how each member of the team will support the project director in the day-to-day management of the project;

(d) Describe how multiple and diverse sectors of the community, including parents and students, have been and will continue to be involved in the design, implementation, and continuous improvement of the project; and

(e) Include, as an attachment, a logic model (a graphic representation of the project in chart format) that identifies needs or gaps and connects those needs or gaps with corresponding project goals, objectives, activities, partners' roles, outcomes, and outcome measures for each of the SS/HS elements.

Applications that do not include the preliminary MOA signed by the authorized representatives of each of the required SS/HS partners (the LEA, the local juvenile justice agency, the local law enforcement agency, and the local public mental health authority) and the logic model will be rejected and not considered for funding.

(4) Final MOA. If funded, grant recipients must complete a final MOA. The final MOA must be signed by the authorized representatives of the LEA, the local juvenile justice agency, the local law enforcement agency, and the local public mental health authority—the required SS/HS partners. For consortium applicants, the final MOA must be signed by the authorized representative for each member LEA and authorized representative for each of the corresponding required SS/HS partners for each member LEA. The final MOA must also include the following:

(a) Information that supports the selection of each identified SS/HS required partner that has signed the final MOA;

(b) Any needed revisions to the statement of support and commitment for each of the required SS/HS partners to implement and sustain the project;

(c) A final roster of the core management team of senior representatives from the required SS/HS partners that clearly defines how each member of the team will support the project director in the day-to-day management of the project;

(d) Any needed revisions to the process for including multiple and diverse sectors of the community in the implementation and continuous improvement of the project;

(e) A final logic model that identifies needs or gaps and connects those needs or gaps with corresponding project goals, objectives, activities, partners' roles, outcomes, and outcome measures for each of the SS/HS elements;

(f) A description of each partner's financial responsibility for the services that it will provide, along with the conditions and terms of responsibility for those services, including the quality, accountability, and coordination of services as they relate to achieving the goals, objectives, and outcomes of the project;

(g) A description of the procedures to be used for referral, treatment, and follow-up for children and adolescents in need of mental health services and an assurance that the local public mental health authority will provide administrative control and/or oversight of the delivery of mental health services; and

(h) Any other necessary revisions to information furnished in the preliminary MOA.

Program Authority: Safe and Drug-Free Schools and Communities Act (20 U.S.C. 7131); Public Health Service Act (42 U.S.C. 290aa); and Juvenile Justice and Delinquency Prevention Act (42 U.S.C. 5614(b)(4)(e) and 5781 et seq.).

Applicable Regulations: (a) The Education Department General Administrative Regulations (EDGAR) in 34 CFR parts 75, 77, 79, 80, 81, 82, 84, 85, 97, 98, 99, and 299. (b) The notice of final priorities, requirements, selection criteria, and definitions published elsewhere in this issue of the Federal Register. (c) The notice of final eligibility requirement for the Office of Safe and Drug-Free Schools discretionary grant programs published in the Federal Register on December 4, 2006 (71 FR 70369).

Note: The regulations in part 79 apply to all applicants except Federally recognized Indian tribes.

II. Award Information

Type of Award: Discretionary grants.

Estimated Available Funds: $38,000,000. Contingent upon the availability of funds and the quality of applications, the Secretary may make additional awards later in FY 2007 and in FY 2008 from the list of unfunded applicants from this competition.

Estimated Range of Awards: Up to $750,000 for an LEA with fewer than 5,000 students; up to $1,500,000 for an LEA with at least 5,000 students but fewer than 35,000 students; and up to $2,250,000 for an LEA with at least 35,000 students.

Estimated Average Size of Awards: $750,000 for an LEA with fewer than 5,000 students; $1,500,000 for an LEA with at least 5,000 students but fewer than 35,000 students; and $2,250,000 for an LEA with at least 35,000 students.

Estimated Number of Awards: 25.

Note: The Department is not bound by any estimates in this notice.

Project Period: Up to 48 months.

III. Eligibility Information

1. Eligible Applicants: LEAs and consortium of LEAs.

Note: The Secretary is limiting eligibility under the SS/HS grant competition (CFDA Number 84.184L) to applicants that do not currently have an active grant under this program. For the purpose of this eligibility requirement, a grant is considered active until the end of the grant's project or funding period, including any extensions of those periods that extend the grantee's authority to obligate funds (notice of final eligibility requirement (71 FR 70369).

2. Cost Sharing or Matching: This competition does not involve cost sharing or matching.

3. (a) Other: Participation by Private School Children and Teachers. Section 9501 of the Elementary and Secondary Education Act (ESEA) of 1965, as amended, requires that LEAs or other entities receiving funds under the Safe and Drug-Free Schools and Communities Act provide for the equitable participation of private school children, their teachers, and other educational personnel in private schools located in areas served by the grant recipient. In order to ensure that grant program activities, curricula, programs, and services address the needs of private school children, LEAs must engage in timely and meaningful consultation with private school officials during the design and development of the program. This consultation must take place before any decision is made that affects the opportunities of eligible private school children, teachers, and other educational personnel to participate.

Administrative direction and control over grant funds must remain with the grantee.

(b) Maintenance of Effort. Section 9521 of the ESEA provides that LEAs may receive a grant only if the State educational agency finds that the combined fiscal effort per student or the aggregate expenditures of the LEA and the State with respect to the provision of free public education by the LEA for the preceding fiscal year was not less than 90 percent of the combined effort or aggregate expenditures for the second preceding fiscal year.

IV. Application and Submission Information

1. Address to Request Application Package: You can obtain an application package via the Internet, from the Education Publications Center (ED Pubs), or from the program office.

To obtain a copy via the Internet, use the following address: http://www.ed.gov/fund/grant/apply/grantapps/index.html.

To obtain a copy from ED Pubs, write, fax, or call the following: Education Publications Center (ED Pubs), P.O. Box 1398, Jessup, MD 20794-1398. Telephone, toll free: 1-877-433-7827. FAX: 301-470-1244. If you use a telecommunications device for the deaf (TDD), call toll free: 1-877-576-7734.

You can contact ED Pubs at its Web site, also: edpubs@inet.ed.gov.

If you request an application from ED Pubs, be sure to identify this competition as follows: CFDA number 84.184L.

To obtain a copy from the program office, contact: Karen Dorsey, U.S. Department of Education, 400 Maryland Avenue, SW., room 3E336, Washington, DC 20202-6450. Telephone: (202) 708-4674 or by e-mail: karen.dorsey@ed.gov.

If you use TDD, call the Federal Relay Service (FRS), toll free, at 1-800-877-8339.

Individuals with disabilities may obtain a copy of the application package in an alternative format (e.g., Braille, large print, audiotape, or computer diskette) by contacting the program contact person in this section.

2. Content and Form of Application Submission: Requirements concerning the content of an application, together with the forms you must submit, are in the application package for this competition.

Page Limit: The application narrative is where you, the applicant, address the selection criteria that reviewers use to evaluate your application. You must limit the application narrative to the equivalent of no more than 40 pages, using the following standards:

• A page is 8.5″ x 11″, on one side only, with 1″ margins at the top, bottom, and on both sides.

• Double space (no more than three lines per vertical inch) all text in the application narrative. Titles, headings, footnotes, quotations, references, and captions, as well as text in charts, tables, figures, and graphs, can be single spaced.

• Use a font that is either 12 point or larger or no smaller than 10 pitch (characters per inch).

• Use one of the following fonts: Times New Roman, Courier, Courier New, or Arial.

• Number all pages consecutively using the style 1 of 40, 2 of 40, and so forth.

• Include a Table of Contents with page references. The 40-page limit does not apply to the Table of Contents.

Our reviewers will not read any pages of the narrative portion of your application that—

• Exceeds the page limit if you apply these standards; or

• Exceeds the equivalent of the pages limit if you apply other standards.

3. Submission Dates and Times:

Applications Available: May 10, 2007.

Deadline for Transmittal of Applications: June 19, 2007.

Applications for grants under this competition may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: August 20, 2007.

4. Intergovernmental Review: This competition is subject to Executive Order 12372 and the regulations in 34 CFR part 79. Information about Intergovernmental Review of Federal Programs under Executive Order 12372 is in the application package for this competition.

5. Funding Restrictions:

(1) No less than seven percent of a grantee's budget for each project year must be used to support costs associated with local evaluation activities.

(2) No more than 10 percent of the total budget for each project year may be used to support costs associated with security equipment, security personnel, and minor remodeling of school facilities to improve school safety.

(3) We reference additional regulations outlining funding restrictions in the Applicable Regulations section of this notice.

6. Other Submission Requirements: Applications for grants under this competition may be submitted electronically or in paper format by mail or hand delivery.

a. Electronic Submission of Applications.

To comply with the President's Management Agenda, we are participating as a partner in the Governmentwide Grants.gov Apply site. The Safe Schools/Healthy Students competition, CFDA Number 84.184L, is included in this project. We request your participation in Grants.gov.

If you choose to submit your application electronically, you must use the Governmentwide Grants.gov Apply site at http://www.Grants.gov Through this site, you will be able to download a copy of the application package, complete it offline, and then upload and submit your application. You may not e-mail an electronic copy of a grant application to us.

You may access the electronic grant application for the Safe Schools/Healthy Students competition at http://www.Grants.gov. You must search for the downloadable application package for this competition by the CFDA number. Do not include the CFDA number's alpha suffix in your search (e.g., search for 84.184, not 84.184L).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application). We may request that you provide us original signatures on forms at a later date.

Application Deadline Date Extension in Case of Technical Issues with the Grants.gov System: If you are experiencing problems submitting your application through Grants.gov, please contact the Grants.gov Support Desk at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.184L), 400 Maryland Avenue, SW., Washington, DC 20202-4260; or

By mail through a commercial carrier: U.S. Department of Education, Application Control Center, Stop 4260, Attention: (CFDA Number 84.184L), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you submit your application in paper format by hand delivery, you (or a courier service) must deliver the original and two copies of your application by hand, on or before the application deadline date, to the Department at the following address: U.S. Department of Education, Application Control Center, Attention: (CFDA Number 84.184L), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from the notice of final priorities, requirements, selection criteria, and definitions published elsewhere in this issue of the Federal Register and are listed in the application package.

2. Review and Selection Process: Additional factors we consider in selecting an application for award are: (1) Geographic distribution; and (2) diversity of activities addressed by the projects.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: Semi-annual and annual performance reports are required for each of the project's four 12 month performance periods in accordance with 34 CFR 75.720(c). At the end of your project period, you must submit a final performance report, including financial information, as directed by the Secretary in 34 CFR 75.118. For specific requirements on reporting, please go to http://www.ed.gov/fund/grant/apply/appforms/appforms.html.

4. Performance Measures: The Department has established the following Government Performance and Results Act (GPRA) performance measures for the SS/HS program:

(1) Student Victimization/Perception of School Safety

(a) Percentage of grantees that experience a decrease in students who did not go to school on 1 or more days during the past 30 days because they felt unsafe at school or on their way to and from school.

(b) Percentage of grantees that experience a decrease in students who have been in a physical fight on school property in the 12 months prior to the survey.

(2) Student Substance Use/Abuse

(a) Percentage of grantees that report a decrease in students who report current (30-day) marijuana use.

(b) Percentage of grantees that report a decrease in students who report current (30-day) alcohol use.

(3) Mental Health Services Provided

(a) Percentage of grantees that report an increase in the number of students receiving school-based mental health services.

(b) Percentage of grantees that report an increase in the percentage of mental health referrals for students that result in mental health services being provided in the community.

These measures constitute the Department's indicator of success for this program. Consequently, we advise an applicant for a grant under this program to give careful consideration to these measures in conceptualizing the approach and evaluation for its proposed project. Each grantee will be required to provide, in its annual performance and final reports, data about its progress in meeting these measures.

VII. Agency Contacts

FOR FURTHER INFORMATION CONTACT: Karen Dorsey, U.S. Department of Education, 400 Maryland Avenue, SW., room 3E336, Washington, DC 20202-6450. Telephone: (202) 708-4674 or by e-mail: karen.dorsey@ed.gov.

If you use a TDD, call the FRS, toll free, at 1-800-877-8339.

VIII. Other Information

Alternative Format: Individuals with disabilities can obtain this document and a copy of the application package in an alternative format (e.g., Braille, large print, audiotape, or computer diskette) on request to the program contact person listed under FOR FURTHER INFORMATION CONTACT in section VII in this notice.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in text or PDF at the following sites: http://www.ed.gov/programs/dvpsafeschools/applicant.html; http://www.sshs.samhsa.gov.

Note: The official version of this document is the document published in the Federal Register. Free Internet access to the official edition of the Federal Register and the Code of Federal Regulations is available on GPO Access at: http://www.gpoaccess.gov/nara/index.html.

Dated: May 4, 2007.
Deborah A. Price,
Assistant Deputy Secretary for Safe and Drug-Free Schools.

[FR Doc. E7-9041 Filed 5-9-07; 8:45 am]

BILLING CODE 4000-01-P